COMMITTEE FOR PURCHASE FROM PEOPLE WHO ARE BLIND OR SEVERELY DISABLED

Procurement List; Proposed Additions and Deletions

AGENCY: Committee for Purchase From People Who Are Blind or Severely Disabled.

ACTION: Proposed Additions to and Deletions from Procurement List.

SUMMARY: The Committee is proposing to add to the Procurement List products to be furnished by nonprofit agencies employing persons who are blind or have other severe disabilities, and to delete products previously furnished by such agencies.

COMMENTS MUST BE RECEIVED ON OR BEFORE: September 22, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly, (703) 603-7740.

SUPPLEMENTARY INFORMATION: This notice is published pursuant to 41 U.S.C 47(a) (2) and 41 CFR 51-2.3. Its purpose is to provide interested persons an opportunity to submit comments on the possible impact of the proposed actions.

Additions

If the Committee approves the proposed additions, the entities of the Federal Government identified in this notice for each product will be required to procure the products listed below from nonprofit agencies employing persons who are blind or have other severe disabilities. I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for addition to the Procurement List. Comments on this certification are invited. Commenters should identify the statement(s) underlying the certification on which they are providing additional information.

The following products are proposed for addition to Procurement List for production by the nonprofit agencies listed:

Products

Product/NSN: MOLLE II Carrier Sleep System,

8465-01-465-2124

8465-01-465-7508.

NPA: Alabama Industries for the Blind, Talladega, Alabama.

NPA: Industries of the Blind, Inc., Greensboro, North Carolina.

NPA: Raleigh Lions Clinic for the Blind, Inc., Raleigh, North Carolina.

Contract Activity: Defense Supply Center Philadelphia, Philadelphia, Pennsylvania.

Product/NSN: Mop, Deck, Rayon Refill, M.R. 1028.

NPA: Arizona Industries for the Blind, Phoenix, Arizona.

NPA: Mississippi Industries for the Blind, Jackson, Mississippi.

NPA: New York City Industries for the Blind, Brooklyn, New York.

Contract Activity: Defense Commissary Agency (DeCA), Ft. Lee, Virginia.

Product/NSN: Mop, Deck, Cotton Refill, M.R. 1029.

NPA: Arizona Industries for the Blind, Phoenix, Arizona.

NPA: Mississippi Industries for the Blind, Jackson, Mississippi.

NPA: New York City Industries for the Blind, Brooklyn, New York.

Contract Activity: Defense Commissary Agency (DeCA), Ft. Lee, Virginia.

Deletions

I certify that the following action will not have a significant impact on a substantial number of small entities. The major factors considered for this certification were:

1. If approved, the action will not result in any additional reporting, recordkeeping or other compliance requirements for small entities other than the small organizations that will furnish the products to the Government.

2. If approved, the action will result in authorizing small entities to furnish the products to the Government.

3. There are no known regulatory alternatives which would accomplish the objectives of the Javits-Wagner-O'Day Act (41 U.S.C. 46-48c) in connection with the products proposed for deletion from the Procurement List.

The following products have been proposed for deletion from the Procurement List:

Products

Product/NSN: Executive/Personal Time Management System, 7510-01-450-5423 (Pocket Planning Set—2000), 7510-01-450-5428 (Pocket Planning Set—2001), 7510-01-450-5435 (Pocket Planning Set—2002), 7510-01-463-0798 (2000 Tabbed Monthly—3 hole), 7510-01-463-0799 (2000 Tabbed Monthly—7 hole), 7510-01-463-0801 (Daymax Tabbed Monthly—7 hole), 7510-01-463-0803 (Daymax Tabbed Monthly—3 hole), 7530-01-458-3130 (LE Black), 7530-00-D16-0057 (Organizer, Day Planner, Travel Size).

NPA: The Easter Seal Society of Western Pennsylvania, Pittsburgh, Pennsylvania.

Contract Activity: Office Supplies & Paper Products Acquisition Center, New York.

Sheryl D. Kennerly,
Director, Information Management.

[FR Doc. 02-21564 Filed 8-22-02; 8:45 am]

BILLING CODE 6353-01-P